SECURITIES AND EXCHANGE COMMISSION

Issuer Delisting; Notice of Application To Withdraw From Listing and Registration; (AMRESCO, INC., 10% Senior Subordinated Notes Due 2003 and 10% Senior Subordinated Notes Due 2004) File No. 1-11599

September 26, 2000.

AMRESCO, INC., a Delaware corporation (“Company”), has filed an application with the Securities and Exchange Commission (“Commission”), pursuant to section 12(d) of the Securities Exchange Act of 1934 (“Act”) ¹ and Rule 12d2-2(d) thereunder,² to withdraw its 10% Senior Subordinated Notes due 2003 and its 10% Senior Subordinated Notes due 2004 (collectively, the “Securities”) from listing and registration on the New York Stock Exchange, Inc. (“NYSE”) ³

¹ 15 U.S.C. 78l(d).

² 17 CFR 240.12d2-2(d).

³ Notice of this application was previously issued by the Commission as Securities Exchange Act Release No. 43267 on September 8, 2000. Such notice, however, failed to appear in the Federal Register, as required, and so is being reissued.

In making the decision to withdraw the Securities from listing and registration at this time, the Company has cited the limited number of registered holders of the Securities. The Company also notes that it is not obligated under the indenture under which the Securities were issued or under any other documents to maintain the Securities' listing on the NYSE or any other exchange. The Company believes that the delisting of the Securities should not have a material impact on the holders of the Securities. The Company has stated that it will use reasonable efforts to obtain market makers for the Securities.

Additionally, the Company notes that its Common Stock, $.05 par value, is currently and shall remain registered pursuant to section 12(g) of the Act.⁴ Accordingly, the company's obligation to file reports with the commission pursuant to section 13 of the Act ⁵ will remain after the proposed withdrawal of the Securities from listing and registration on the NYSE.

⁴ 15 U.S.C. 78l(g).

⁵ 15 U.S.C. 78m.

The Company has stated in its application to the Commission that it has complied with the requirements of NYSE Rule 500, which governs an issuer's voluntary withdrawal of securities from listing on the NYSE.

Any interested person may, on or before October 18, 2000, submit by letter to the Secretary of the Securities and Exchange Commission, 450 Fifth Street, NW., Washington, DC 20549-0609, facts bearing upon whether the application has been made in accordance with the rules of Exchange and what terms, if any, should be imposed by the Commission for the protection of investors. The Commission, based on the information submitted to it, will issue an order granting the application after the date mentioned above, unless the Commission determines to order a hearing on the matter.

For the Commission, by the Division of Market Regulation, pursuant to delegated authority.⁶
⁶ 17 CFR 200.30-3(a)(1).
Jonathan G. Katz,
Secretary.

[FR Doc. 00-25334 Filed 10-2-00; 8:45 am]

BILLING CODE 8010-01-M